DEPARTMENT OF TRANSPORTATION

Office of the Secretary

[Docket Number: DOT-OST-2009-0208]

Application of Kaiserair, Inc. for Certificate Authority

AGENCY: Department of Transportation.

ACTION: Notice of Order to Show Cause (Order 2010-5-25).

SUMMARY: The Department of Transportation is directing all interested persons to show cause why it should not issue an order finding KaiserAir, Inc., fit, willing, and able, and to provide interstate charter air transportation of persons, property, and mail using one large aircraft.

DATES: Persons wishing to file objections should do so no later than June 7, 2010.

ADDRESSES: Objections and answers to objections should be filed in Docket DOT-OST-2009-0208 and addressed to U.S. Department of Transportation, Docket Operations, (M-30, Room W12-140), 1200 New Jersey Avenue, SE., West Building Ground Floor, Washington, DC 20590, and should be served upon the parties listed in Attachment A to the order.

FOR FURTHER INFORMATION CONTACT: Michael Price, Air Carrier Fitness Division (X-56, Room W86-462), U.S. Department of Transportation, 1200 New Jersey Avenue, SE., Washington, DC 20590, (202) 366-9721.

Dated: May 24, 2010.
Susan Kurland,
Assistant Secretary for Aviation and International Affairs.

[FR Doc. 2010-13022 Filed 5-28-10; 8:45 am]

BILLING CODE P